DEPARTMENT OF THE INTERIOR

Bureau of Land Management

[BLM_NV_FRN_MO4500167453]

Notice of Intent To Amend the Las Vegas Resource Management Plan and Prepare an Environmental Impact Statement for the Proposed Golden Currant Solar Project in Clark County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Director intends to prepare a Resource Management Plan amendment (RMPA) with an associated Environmental Impact Statement (EIS) for the Golden Currant Solar Project and by this notice is announcing the beginning of the scoping period to solicit public comments and identify issues, and is providing the planning criteria for public review.

DATES: The BLM requests the public submit comments concerning the scope of the analysis, potential alternatives, and identification of relevant information, and studies by June 9, 2023. To afford the BLM the opportunity to consider issues raised by commenters in the RMPA/EIS, please ensure your comments are received prior to the close of the 45-day scoping period or 15 days after the last public meeting, whichever is later.

The BLM will conduct two public scoping meetings (virtually):

• May 10, 2023, 6-8 p.m. Pacific Time, Virtual via Zoom. Registration is required. To register in advance for this webinar, visit: https://us02web.zoom.us/webinar/register/WN_TTSUwNMlRvquIS0d5kV2rA.

• May 11, 2023, 6-8 p.m. Pacific Time, Virtual via Zoom. Registration is required. To register in advance for this webinar, visit: https://us02web.zoom.us/webinar/register/WN_1aKVxTCHShWKugCNOSQCvw.

ADDRESSES: You may submit comments on issues and planning criteria related to the Golden Currant Solar Project by any of the following methods:

• Website: https://eplanning.blm.gov/eplanning-ui/admin/project/2021533/510.

• Email: BLM_NV_SND_EnergyProjects@blm.gov.

• Mail: BLM, Las Vegas Field Office, Attn: Golden Currant Solar Project, 4701 North Torrey Pines Drive, Las Vegas, NV 89130-2301.

Documents pertinent to this proposal may be examined online at the project ePlanning page: https://eplanning.blm.gov/eplanning-ui/project/2019523/510 and at the Southern Nevada District Office.

FOR FURTHER INFORMATION CONTACT: Jessica Headen, Project Manager, telephone (702) 515-5206; address 4701 North Torrey Pines Drive, Las Vegas, NV 89130-2301; email BLM_NV_SND_EnergyProjects@blm.gov. Contact Ms. Headen to have your name added to our mailing list. Individuals in the United States who are deaf, deafblind, hard of hearing, or have a speech disability may dial 711 (TTY, TDD, or TeleBraille) to access telecommunications relay services for contacting Ms. Headen. Individuals outside the United States should use the relay services offered within their country to make international calls to the point-of-contact in the United States.

SUPPLEMENTARY INFORMATION: This document provides notice that the BLM Nevada State Director intends to prepare an RMPA with an associated EIS for the Golden Currant Solar Project, announces the beginning of the scoping process, and seeks public input on issues and planning criteria. The RMPA is being considered to allow the BLM to evaluate the Golden Currant Solar Project, which would require amending the existing 1998 Las Vegas Resource Management Plan (RMP).

The proposed project and planning area is in Clark County, southeast of the Town of Pahrump and approximately 40 miles west of Las Vegas. The proposed project encompasses approximately 4,456 acres of public lands.

In August 2021, Noble Solar LLC submitted an updated right-of-way application to the BLM Las Vegas Field Office for the Golden Currant Solar Project (Project) requesting authorization to construct, operate, maintain, and eventually decommission a 400-megawatt photovoltaic solar electric generating facility, battery storage facilities, associated generation tie-line, and access road facilities. The electricity generated would be conveyed to the Trout Canyon Substation located north of the project site via a generation (gen-tie) transmission line. Construction for the facilities is estimated to take approximately 12 months. The lands within the proposed project area were segregated, subject to valid existing rights, for a term of two years beginning July 5, 2022, with publication of the Notice of Segregation in the Federal Register.

The scope of this land use planning process does not include addressing the evaluation or designation of areas of critical environmental concern (ACECs), and the BLM is not soliciting ACEC nominations as part of this process.

Purpose and Need

The BLM's purpose and need for this Federal action is to respond to right-of-way applications submitted by Noble Solar LLC under title V of FLPMA (43 U.S.C. 1761) to construct, operate, maintain, and decommission a solar generation power plant and ancillary facilities on approximately 4,456 acres of BLM land in Clark County, Nevada, in compliance with FLPMA, BLM right-of-way regulations, the BLM NEPA Handbook (BLM 2008), U.S. Department of the Interior NEPA regulations, and other applicable Federal and State laws and policies. In accordance with FLPMA, public lands are to be managed for multiple uses that takes into account the long-term needs of future generations for renewable and non-renewable resources. The BLM is authorized to grant rights-of-way on public lands for systems of generation, transmission, and distribution of electrical energy (FLPMA section 501(a)(4)). The preliminary purpose and need also includes an amendment to the 1998 Las Vegas RMP to realign designated utility corridors that currently traverse the proposed project area.

Preliminary Alternatives

The Proposed Action is to approve rights-of-way to Noble Solar LLC to construct, operate, and eventually decommission the proposed solar project and associated facilities with the potential to generate 400 megawatts of alternating current energy on 4,456 acres of BLM administered lands. The Proposed Action also includes an amendment to the 1998 Las Vegas RMP to realign designated utility corridors that currently traverse the proposed project area.

West-Wide Energy Corridor Segment # 224-225, established under authority of Section 368 of the Energy Policy Act of 2005, traverses the central portion of the project area from east to west. In addition, a BLM Southern Nevada District designated utility corridor, established by the RMP, also traverses the central portion of the project area. Per 43 CFR 1610.5-3, the project must be in conformance with the RMP; therefore, a plan amendment to modify both utility corridors by realigning them outside of the Golden Currant Solar Project area would be required.

Additional action alternatives have not been identified to date but would be developed by taking into consideration comments and input submitted during the application evaluation determination process and scoping.

Under the No Action Alternative BLM would not issue a right-of-way grant for the solar project and associated facilities. The proposed Project would not be constructed, and existing land uses in the project area would continue. Additionally, the BLM would not undertake an RMPA to realign utility corridors. The BLM welcomes comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies; Tribes; and other stakeholders. The BLM has identified preliminary issues for this planning effort's analysis. The planning criteria are available for public review and comment at the ePlanning website (see ADDRESSES).

Summary of Expected Impacts

The analysis in the EIS will be focused on the proposed solar project and associated facilities, including battery storage and transmission line construction. The BLM evaluated the proposed Project application per the variance process described in the Programmatic Environmental Impact Statement for Solar Energy Development in Six Southwestern States. Through this process, the BLM completed public outreach and coordination with agencies and Indian Tribal Nations specific to the proposed Project. From the input received, the expected impacts from construction, operation, and eventual decommissioning of the solar project, associated facilities, and the RMP amendment could include:

• Potential desert tortoise habitat disturbance and changes in genetic connectivity habitat from construction of the proposed facilities;

• Potential effects to cultural resources in the project area from construction activities;

• Potential effects to basin groundwater resources from the proposed construction water needs for the Project;

• Potential socioeconomic impacts from the proposed Project to local communities;

• Potential air quality impacts from proposed construction activities;

• Potential impacts to vegetation species from construction, operations, and decommissioning of the Project and associated facilities;

• Potential effects to the recreational opportunities and public use of the proposed Project area due to construction and operations of the solar facility;

• Potential effects to the Old Spanish National Historic Trail; and

• Potential cumulative effects from other reasonably foreseeable actions in the area.

Preliminary issues for the Project have been identified by the BLM, other Federal agencies, the State, local agencies, Tribes, and the public during the variance process. The following resources, or resource uses, have potential issues that will need to be analyzed in detail in the EIS: vegetation and soils, threatened and endangered species, air quality and climate, cultural and historic resources, water resources, access to public lands, socioeconomics, public health and safety, and proximity to Old Spanish National Historic Trail, and other reasonably foreseeable effects from other projects in the area. Habitat for the federally listed desert tortoise is in this project area.

Anticipated Permits and Authorizations

Along with a BLM right-of-way grant as required under 43 CFR 2801.9, Noble Solar LLC anticipates needing the following authorizations and permits for the proposed project: Biological Opinion and Incidental Take Permit from the U.S. Fish and Wildlife Service; Section 404 Permit from U.S. Army Corps of Engineers; Wildlife Special Purpose permit from Nevada Department of Wildlife; Nevada Division of Environmental Protection Stormwater and Groundwater Discharge permits and Temporary in Waterways Work permit; Nevada Public Utilities Commission Permit to Construct; Nevada Division of Water Resources water rights modification permits; Nevada State Fire Marshal Hazardous Materials Storage permit; and Clark County permits, as necessary. Further details on these permitting requirements may be found in the Plan of Development for the Golden Currant Solar Project.

Schedule for the Decision-Making Process

The BLM will provide additional opportunities for public participation consistent with the NEPA and land use planning processes, including a 90-day comment period on the Draft RMPA/EIS and a concurrent 30-day public protest period and 60-day Governor's consistency review on the Proposed RMPA and Final EIS. The Draft RMPA/EIS is anticipated to be available for public review in early 2024, and the Proposed RMPA and Final EIS is anticipated to be available for public protest in the summer of 2024 with an Approved RMPA and Record of Decision in the fall of 2024.

Public Scoping Process

This notice of intent initiates the scoping period and public review of the planning criteria, which guide the development and analysis of the Draft RMPA/EIS.

The BLM will be holding two virtual scoping meetings (see DATES and ADDRESSES sections earlier). The specific date(s) and location(s) of any additional scoping meetings will be announced at least 15 days in advance through the project ePlanning web page: https://eplanning.blm.gov/eplanning-ui/admin/project/2021533/510.

The purpose of the public scoping process is to determine relevant issues that will influence the scope of the environmental analysis, including alternatives and mitigation measures, and to guide the process for developing the EIS. Federal, State, and local agencies, along with other stakeholders that may be interested or affected by the BLM's decision on this project, are invited to participate in the scoping process and, if eligible, may request or be requested by the BLM to participate as a cooperating agency. The BLM encourages comments concerning the proposed Golden Currant Solar Project and RMPA, possible measures to minimize and/or avoid adverse environmental impacts, and any other information relevant to the Proposed Action.

The BLM also requests assistance with identifying potential alternatives to the Proposed Action. As alternatives should resolve an issue with the Proposed Action, please indicate the purpose of the suggested alternative. In addition, the BLM requests the identification of potential issues that should be analyzed. Issues should be a result of the Proposed Action or Alternatives; therefore, please identify the activity along with the potential issues.

Lead and Cooperating Agencies

The BLM Las Vegas Field Office is the lead Federal agency for this RMPA and EIS and the related National Historic Preservation Act section 106 process. The following have agreed to participate in the environmental analysis of the Project as Cooperating Agencies: Clark County Department of Aviation, Nye County, U.S. Fish and Wildlife Service, U.S. Environmental Protection Agency, Nevada Department of Wildlife, and Nevada Division of Emergency Management. Twenty-one entities declined or did not respond to the BLM's offer to participate in the Project as a Cooperating Agency. Federal, State, and local agencies, Tribes, and stakeholders interested in the scoping process may request or be requested by the BLM, if eligible, to participate in the development of the EIS as a Cooperating Agency.

Responsible Official

The Nevada State Director is the deciding official for this planning effort and proposed Golden Currant Solar Project.

Nature of Decision To Be Made

The nature of the decision to be made will be the State Director's selection of land use planning decisions for managing BLM-administered lands under the principles of multiple use and sustained yield in a manner that best addresses the purpose and need.

The BLM will decide whether to grant, grant with conditions, or deny the right of way application. Pursuant to 43 CFR 2805.10, if the BLM issues right-of-way grant(s), the BLM decision maker may include terms, conditions, and stipulations determined to be in the public interest.

Interdisciplinary Team

The BLM will use an interdisciplinary approach to develop the EIS in order to consider the variety of resource issues and concerns identified. Specialists with expertise in the following disciplines will be involved in this process: air quality, archaeology, botany, climate change, environmental justice, fire and fuels, geology/mineral resources, hazardous materials, hydrology, invasive/non-native species, lands and realty, National Conservation Lands, National Trails System, public health and safety, recreation/transportation, socioeconomics, soils, visual resources, and wildlife.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The BLM will utilize and coordinate the NEPA and land use planning processes for this planning effort to help support compliance with applicable procedural requirements under the Endangered Species Act (16 U.S.C. 1536) and Section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribal Nations on a government-to-government basis in accordance with Executive Order 13175, BLM MS 1780, and other policies. Tribal concerns, including impacts on Tribal trust assets and potential impacts to cultural resources, will be given due consideration. Federal, State, and local agencies, along with Indian Tribal Nations, and other stakeholders that may be interested in or affected by the proposed action that the BLM is evaluating, are invited to participate in the scoping process and, if eligible, may request or be requested by the BLM to participate in the development of the environmental analysis as a cooperating agency. The BLM intends to hold a series of government-to-government consultation meetings. The BLM will send invitations to potentially affected Indian Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

(Authority: 40 CFR 1501.7, 43 CFR 1610.2, and 2800.)

Jon K. Raby,
Nevada State Director.

[FR Doc. 2023-08718 Filed 4-24-23; 8:45 am]

BILLING CODE 4331-21-P